NATIONAL AERONAUTICS AND SPACE ADMINISTRATION

[Notice (03-114)]

Advanced Space Transportation Subcommittee; Meeting

AGENCY: National Aeronautics and Space Administration (NASA).

ACTION: Notice of meeting.

SUMMARY: The National Aeronautics and Space Administration announces a forthcoming meeting of the Advanced Space Transportation Subcommittee (ASTS).

DATES: Wednesday, October 15, 2003, 8:30 a.m. to 5:30 p.m., and Thursday, October 16, 2003, 8 a.m. to 9:30 a.m.

ADDRESSES: Cocoa Beach, Holiday Inn, 1300 N. Atlantic Avenue, Cocoa Beach, FL 32931.

FOR FURTHER INFORMATION CONTACT: Ms. Mary-Ellen McGrath, Office of Aerospace Technology, National Aeronautics and Space Administration, Washington, DC 20546, (202) 358-4729.

SUPPLEMENTARY INFORMATION: The meeting will be open to the public up to the seating capacity of the room. The agenda for the meeting is as follows:

—Overview of Agenda

—Welcome/Opening Remarks

—Review of Action Items

—ATAC and Space Transportation Update

—ISTP Update

—OSP Update

—NGLT Update

—USAF/NASA Cooperative Planning

—Advanced Range Technology/Spaceport Working Group

—Panel Member Discussion

It is imperative that the meeting be held on these dates to accommodate the scheduling priorities of the key participants. Visitors will be requested to sign a visitor's register.

June W. Edwards,
Advisory Committee Management Officer, National Aeronautics and Space Administration.

[FR Doc. 03-23983 Filed 9-18-03; 8:45 am]

BILLING CODE 7510-01-P